DEPARTMENT OF COMMERCE

National Oceanic and Atmospheric Administration

RIN 0648-XD195

Caribbean Fishery Management Council; Public Meeting

AGENCY: National Marine Fisheries Service (NMFS), National Oceanic and Atmospheric Administration (NOAA), Commerce.

ACTION: Notice of a public meeting.

SUMMARY: The Caribbean Fishery Management Council (Council) will hold its 149th meeting.

DATES: The meeting will be held on April 22-23, 2014. The Council will convene on Tuesday, April 22, 2014 from 9 a.m. to 6 p.m., and will reconvene on Wednesday, April 23, 2014, from 9 a.m. to 5 p.m.

ADDRESSES: The meeting will be held at the Divi Carina Beach Resort and Casino, 25 Estate Turner Hole, Christiansted, St. Croix, USVI 00820.

FOR FURTHER INFORMATION CONTACT: Caribbean Fishery Management Council, 270 Muñoz Rivera Avenue, Suite 401, San Juan, Puerto Rico 00918, telephone: (787) 766-5926.

SUPPLEMENTARY INFORMATION: The Council will hold its 149th regular Council Meeting to discuss the items contained in the following agenda:

April 22, 2014, 9 a.m.-5 p.m.

• Call to Order

• Adoption of Agenda

• Consideration of 148th Council Meeting Verbatim Transcriptions

• Executive Director's Report

• Management Issues Under Development: Brief Overview—Dr. William Arnold

• Island-Based Fishery Management

—SSC Meeting Report—Dr. Richard Appeldoorn

—Outcomes from the Second Round of Island-Based Scoping Meetings—Dr. Graciela García-Moliner/Dr. William Arnold

—Request to Council for Motion Directing Staff to Initiate the Development of the Public Hearing Draft/DEISs and FMPs

• Annual Catch Limit Control Rule—Dr. William Arnold

Council Considers Public Hearing Draft

Select Preferred Alternatives

Request Approval for Public Hearings via Motion

• Timing of Accountability Measure-based Closures Action—Dr. Kate Quigley

Scoping Document Presented to the Council

Request Approval for Scoping Hearings via Motion

• Abrir/Bajo/Tourmaline Consistency of Regulations—Dr. Graciela García-Moliner

Council Considers Public Hearing Draft

Select Preferred Alternatives

Request Approval for Public Hearings via Motion

• SEDAR 35 Red Hind Update -Dr. Graciela García-Moliner

• Outreach and Education Report—Dr. Alida Ortíz

Public Comment Period (5-minutes presentations)

April 22, 2014, 5:15 p.m.-6 p.m.

• Administrative Matters

—Budget Update FY 2014/15

—Closed Session to Discuss SSC/AP/OEAP Memberships

—Other Business

April 23, 2014, 9 a.m.-5 p.m.

• Update: Planning for the FY14 Funds Received to Support Improvements in Data Collection Management in the U.S. Virgin Islands and Puerto Rico—Dr. Bonnie Ponwith

• MRIP Caribbean Report

• Electronic Reporting Project for Puerto Rico and the U.S. Virgin Islands—Point 97 Representative

• Lang Bank Report—Dr. Jorge R. García-Sais

• Queen Conch Minimum Size Requirements—Clarification of Regulations in 50 CFR Part §622.492—Dr. William Arnold

• Enforcement Issues:

—Puerto Rico—DNER

—U.S. Virgin Islands—DPNR

—U.S. Coast Guard

• Meetings Attended by Council Members and Staff

Public Comment Period (5-minute presentations)

• Other Business

—Approaching the End of the Grouper 4 Rebuilding Plan

—Fishery Independent Data Workshop Plans—Dr. William Arnold

The established times for addressing items on the agenda may be adjusted as necessary to accommodate the timely completion of discussion relevant to the agenda items. To further accommodate discussion and completion of all items on the agenda, the meeting may be extended from, or completed prior to the date established in this notice.

The meeting is open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

The meeting is physically accessible to people with disabilities. For more information or request for sign language interpretation and/or other auxiliary aids, please contact Mr. Miguel A. Rolón, Executive Director, Caribbean Fishery Management Council, 270 Muñoz Rivera Avenue, Suite 401, San Juan, Puerto Rico 00918, telephone (787) 766-5926, at least five days prior to the meeting date.

Dated: March 19, 2014.
Tracey L. Thompson,
Acting Deputy Director, Office of Sustainable Fisheries, National Marine Fisheries Service.

[FR Doc. 2014-06332 Filed 3-21-14; 8:45 am]

BILLING CODE 3510-22-P